DEPARTMENT OF DEFENSE

Office of the Secretary

[Transmittal No. 20-44]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-44 with attached Policy Justification.

Dated: August 12, 2020.
Aaron T. Siegel,
Alternate OSD Federal Register Liaison Officer, Department of Defense.

BILLING CODE 5001-06-P

BILLING CODE 5001-06-C

Transmittal No. 20-44

Notice of Proposed Issuance of Letter of Offer Pursuant to Section 36(b)(1) of the Arms Export Control Act, as amended

(i) Prospective Purchaser: Government of Israel

(ii) Total Estimated Value:

Major Defense Equipment * | $ 0
Other | $3.0 billion
TOTAL | $3.0 billion

(iii) Description and Quantity or Quantities of Articles or Services under Consideration for Purchase:

Major Defense Equipment (MDE):

None

Non-MDE includes:

Approximately 990 million gallons of Petroleum-based products, to include JP-8 Aviation Fuel, Diesel Fuel, and Unleaded Gasoline

(iv) Military Department: Army (IS-B-ZMI, IS-B-ZMJ)

(v) Prior Related Cases, if any: None

(vi) Sales Commission, Fee, etc., Paid, Offered, or Agreed to be Paid: None

(vii) Sensitivity of Technology Contained in the Defense Article or Defense Services Proposed to be Sold: None

(viii) Date Report Delivered to Congress: July 6, 2020

*As defined in Section 47(6) of the Arms Export Control Act.

POLICY JUSTIFICATION

Israel—JP-8 Aviation Fuel, Diesel Fuel, and Unleaded Gasoline

The Government of Israel has requested to buy approximately 990 million gallons of Petroleum-based products, to include JP-8 Aviation Fuel, Diesel Fuel, and Unleaded Gasoline. The total estimated cost is $3.0 billion.

The United States is committed to the security of Israel, and it is vital to U.S. national interests to assist Israel to develop and maintain a strong and ready self-defense capability. This proposed sale is consistent with those objectives.

The proposed sale of the JP-8 aviation fuel will enable Israel to maintain operational aircraft. Diesel fuel and unleaded gasoline will be used for ground vehicles. The proposed sale will improve Israel's ability to meet current and future threats in order to defend its borders.

The proposed sale of this equipment and support will not alter the basic military balance in the region.

U.S. vendors will be selected using a competitive bid process through Defense Logistics Agency Energy for supply source(s). There are no known offset agreements proposed in connection with this potential sale.

Implementation of this proposed sale will not require the assignment of any additional US Government or contractor representatives to Israel.

There will be no adverse impact on U.S. defense readiness as a result of this proposed sale.

[FR Doc. 2020-18699 Filed 8-25-20; 8:45 am]

BILLING CODE 5001-06-P